FEDERAL ELECTION COMMISSION

Sunshine Act Meetings

FEDERAL REGISTER CITATION OF PREVIOUS ANNOUNCEMENT: 87 FR 23862.

PREVIOUSLY ANNOUNCED TIME AND DATE OF THE MEETING: Tuesday, April 26, 2022 at 10:00 a.m. and its continuation at the conclusion of the open meeting on April 28, 2022.

CHANGES IN THE MEETING: Information the premature disclosure of which would be likely to have a considerable adverse effect on the implementation of a proposed Commission action.

* * * * *

CONTACT FOR MORE INFORMATION: Judith Ingram, Press Officer. Telephone: (202) 694-1220.

Authority: Government in the Sunshine Act, 5 U.S.C. 552b.

Laura E. Sinram,
Acting Secretary and Clerk of the Commission.

[FR Doc. 2022-09674 Filed 5-2-22; 4:15 pm]

BILLING CODE 6715-01-P